DEPARTMENT OF THE INTERIOR

Fish and Wildlife Service

Endangered and Threatened Wildlife and Plants; 5-Year Review of Foreign Listed Psittacine Species

AGENCY: Fish and Wildlife Service, Interior.

ACTION: Notice of review.

SUMMARY: We, the U.S. Fish and Wildlife Service (Service), announce a review of all endangered and threatened foreign species in the Order Psittaciformes (parrots, parakeets, macaws, cockatoos, etc.; also known as psittacine birds) listed under the Endangered Species Act (Act) of 1973, as amended. This first announcement of review of species' status will be followed by additional announcements of review for other groups of endangered and threatened foreign species. The Act requires such a review at least once every 5 years. The purpose of the review is to ensure that the Lists of Endangered and Threatened Wildlife and Plants accurately reflect the most current status information for each listed species. We request comments and the most current scientific or commercial information available on these species, as well as species that may warrant future consideration for listing. If the present classification of species is not consistent with the best scientific and commercial information available at the conclusion of this review, we may propose changes to the list accordingly.

DATES: Your comments on the notice of review must be received by December 21, 2000 to receive consideration from the Service.

ADDRESSES: Submit comments, information, and questions to the Chief, Division of Scientific Authority; Mail Stop: Room 750, Arlington Square, U.S. Fish and Wildlife Service, Washington, DC 20240 (Fax number: 703-358-2276; E-mail address: r9osa@fws.gov). Address express and messenger-delivered mail to the Division of Scientific Authority; Room 750, 4401 North Fairfax Drive, Arlington, Virginia 22203. Comments and materials received will be available for public inspection by appointment, from 8 a.m. to 4 p.m., Monday through Friday, at the Arlington, Virginia, address.

FOR FURTHER INFORMATION CONTACT: Michael D. Kreger, Division of Scientific Authority (See ADDRESSES section) (phone: 703-358-1708, fax: 703-358-2276, E-mail: r9osa@fws.gov).

SUPPLEMENTARY INFORMATION:

Background

Where can the lists of endangered and threatened species be found?

The Lists of Endangered and Threatened Wildlife and Plants are found in 50 CFR 17.11 (wildlife) and 17.12 (plants). The most recent lists were published in the Code of Federal Regulations on October 1, 1999; however, we have amended the list since then through final rules published in the Federal Register. The lists are also available on the World Wide Web at http://ecos.fws.gov/webpage/webpage_foreign.html. These lists contain the names of all species of U.S. and foreign wildlife and plants that have been determined by both the Service and the National Marine Fisheries Service to be endangered or threatened. The lists also contain the names of species of wildlife that are treated as endangered or threatened because of a similarity of appearance to endangered or threatened species.

Why is this review being conducted?

The procedural rules for listing, reclassifying, or removing species from the lists can be found in 50 CFR Part 424. The Act, as amended, and 50 CFR 424.21 require that the Secretary of the Interior and the Secretary of Commerce conduct a review of each listed species at least once every 5 years. This review will consider all foreign psittacine birds listed as endangered or threatened by the United States. The following table lists the species under review.

Foreign Species in the Order Psittaciformes Listed Under the Endangered Species Act.

Note: All of the following are listed as endangered.

Common name | Scientific name | Historic range | Year listed
Kakapo (owl parrot) | Strigops habroptilus | New Zealand | 1970
Macaw, glaucous | Anodorhynchus glaucus | Paraguay, Uraguay, Brazil | 1976
Macaw, indigo | Anodorhynchus leari | Brazil | 1976
Macaw, little blue | Cyanopsitta spixii | Brazil | 1976
Parakeet, blue-throated (ochre-marked) | Pyrrhura cruentata | Brazil | 1970
Parakeet, Forbes' | Cyanoramphus auriceps forbesi | New Zealand | 1970
Parakeet, golden | Aratinga guarouba | Brazil | 1976
Parakeet, golden-shouldered (hooded) | Psephotus chrysopterygius | Australia | 1970
Parakeet, Mauritius | Psittacula echo | Indian Ocean—Mauritius | 1970
Parakeet, Norfolk Island | Cyanoramphus cookii (novaezelandiae c.) | Australia (Norfolk Island) | 1990
Parakeet, orange-bellied | Neophema chrysogaster | Australia | 1970
Parakeet, paradise (beautiful) | Psephotus pulcherrimus | Australia | 1970
Parakeet, scarlet-chested (splendid) | Neophema splendida | Australia | 1970
Parakeet, turquoise | Neophema pulchella | Australia | 1970
Parrot, Bahamian or Cuban | Amazona leucocephala | West Indies—Cuba, Bahamas, Caymans | 1970
Parrot, ground | Pezoporus wallicus | Australia | 1973
Parrot, imperial | Amazona imperialis | West Indies—Dominica | 1970
Parrot, night (Australian) | Geopsittacus occidentalis | Australia | 1970
Parrot, red-browed | Amazona rhodocorytha | Brazil | 1970
Parrot, red-capped | Pionopsitta pileata | Brazil | 1976
Parrot, red-necked | Amazona arausiaca | West Indies—Dominica | 1979
Parrot, red-spectacled | Amazona pretrei pretrei | Brazil, Argentina | 1976
Parrot, red-tailed | Amazona brasiliensis | Brazil | 1990
Parrot, Seychelles lesser vasa | Coracopsis nigra barklyi | Indian Ocean—Seychelles (Praslin Island) | 1995
Parrot, St. Lucia | Amazona versicolor | West Indies—St. Lucia | 1970
Parrot, St. Vincent | Amazona guildingii | West Indies—St. Vincent | 1970
Parrot, vinaceous-breasted | Amazona vinacea | Brazil | 1976

Why start the review process with psittacine birds?

We have chosen to begin the review process with psittacine birds due to the high level of public interest in these species. We receive frequent communications from the avicultural community and others regarding the status of these birds. Of more than 350 species of psittacine birds, 27 foreign species are listed under the Act. All except four species were listed in the 1970s, and each species was classified as endangered. Since listing, however, national legislation in range countries, international treaties such as the Convention on International Trade in Endangered Species of Wild and Fauna and Flora (CITES), and additional U.S. legislation such as the Wild Bird Conservation Act (P.L. 102-440) have been enacted to control trade in wild birds and encourage species' conservation. New technologies such as the use of Global Positioning Systems (GPS) and advances in telemetry have improved monitoring of wild populations. Habitat protection, captive breeding, and other activities may also affect the biological sustainability of these species. We intend to examine the effectiveness of relevant regulatory and scientific programs to determine the current status of the species listed, to determine whether they should be reclassified or removed from the list, and perhaps to recommend additional species for listing if warranted.

Definitions

What definitions would be helpful in reviewing this list?

The following definitions are provided to assist anyone considering submitting information for this review.

(a) Psittacine bird means any member of the Order Psittaciformes, which includes parrots, macaws, budgerigars, parakeets, lovebirds, cockatoos, and similar species.

(b) Species includes any species or subspecies of fish or wildlife or plant, and any distinct population segment of any species or subspecies of a vertebrate, that is capable of interbreeding when mature.

(c) Endangered means any species that is in danger of extinction throughout all or a significant portion of its range.

(d) Threatened means any species that is likely to become an endangered species within the foreseeable future throughout all or a significant portion of its range.

How do we determine whether a species is endangered or threatened?

A species is determined, or reclassified, to be endangered or threatened because of any of the following factors:

(a) The present or threatened destruction, modification, or curtailment of its habitat or range;

(b) Overutilization for commercial, recreational, scientific, or educational purposes;

(c) Disease or predation;

(d) The inadequacy of existing regulatory mechanisms; or

(e) Other natural or manmade factors affecting its continued existence.

How does a species get removed from the list?

These same five factors must be considered before removing a species from the list. The regulations (50 CFR 424.11(d)) state that the data to support a removal must be the best scientific and commercial information available to the Service to substantiate that the species is neither endangered nor threatened for one or more of the following reasons:

(a) Extinction. Unless all individuals of a listed species had been previously identified and located and later found to be extirpated from their previous range, a sufficient period of time must be allowed before delisting to indicate clearly that the species is in fact extinct.

(b) Recovery of the species. Our principal goal is to improve the status of listed species to a point where protection under the Act is no longer required. A species may be delisted on the basis that it has recovered only if the best scientific and commercial information available indicate that it is no longer threatened or endangered.

(c) Original data for classification was in error. Additional investigations may show that the best scientific or commercial information available when a species was listed, or the interpretation of the data, was in error.

What could happen as a result of this review?

If anyone provides us with substantial new information for one or more species in the table above, we may propose new rules that could do any of the following:

(a) reclassify a species from endangered to threatened; or

(b) consider removal of a species from the List of Endangered and Threatened Wildlife.

Distinct geographic populations of vertebrate species, as well as subspecies of all listed species, may be proposed for separate reclassification or for removal from the list. New species may also be proposed for addition to the list.

What will happen if no new information is submitted on any of the listed species?

No changes will be made to the classification of any of the species as a result of this review unless substantial information is received. The next formal status review for psittacine species in the List of Endangered and Threatened Wildlife will occur approximately 5 years after the completion of this review. However, within existing resource capabilities, we will continue to review the status of other listed species and try to initiate reclassification or delisting whenever substantial new information indicates that doing so would be appropriate.

Request for Information

We request comments on this Notice of Review from any foreign government or agency, the public, other Federal, State, and local governmental agencies, the scientific community, industry, or any other interested party. We will provide this Notice to all countries where these species are known to occur in the wild. The comments should provide as much scientific information as possible (e.g., literature citations). Submissions with detailed information are much more helpful than those that advocate or state a position, but contain no biological information. In particular, we are seeking information:

(1) That indicates a need for a change in the status of any of the listed or unlisted psittacine species;

(2) Regarding past and present numbers and distribution of the involved species, subspecies, or distinct vertebrate populations and particular factors currently threatening or no longer threatening the species;

(3) Pointing out taxonomic or nomenclatural changes for any of the taxa;

(4) Suggesting appropriate common names; and

(5) Noting any mistakes, such as errors in the indicated historical ranges.

If possible, this information should be supported by documentation such as maps, a list of bibliographic references, or copies of any pertinent publications, reports, or letters by knowledgeable sources.

What if we receive extensive substantive information on a large number of species?

We will evaluate information received and information in our files and determine: (1) Whether or not any currently listed species should be evaluated; and (2) whether or not the listing of any currently unlisted species should be considered. Due to limited resources available for this effort, our highest priority will be for those species whose conservation status in the wild would most benefit from a change in their listing status under the Act.

Authority: This document is published under the authority of the Endangered Species Act (16 U.S.C. 1531 et seq.).

Dated: September 13, 2000.
Jamie Rappaport Clark,
Director.

[FR Doc. 00-24423 Filed 9-21-00; 8:45 am]

BILLING CODE 4310-55-P